DEPARTMENT OF AGRICULTURE

Notice of Resource Advisory Committee Meeting

AGENCY: Modoc Resource Advisory Committee, Alturas, California, USDA Forest Service

ACTION: Notice of meetings.

SUMMARY: Pursuant to the authorities in the Federal Advisory Committees Act (Pub. L. 92-463) and under the Secure Rural Schools and Community Self-Determination Act of 2000 (Public Law 106-393) the Modoc National Forest's Modoc Resource Advisory Committee will meet Wednesday, June 12th, 2002 and Wednesday, July 10th, 2002 in Alturas, California for business meetings. The meetings are open to the public.

SUPPLEMENTARY INFORMATION: The business meeting June 12th begins at 5 pm., at the Modoc National Forest Office, Conference Room, 800 West 12th St., Alturas. Agenda topics will include approval of 05/11/02 minutes, reports from subcommittees and review and selection of projects that will improve the maintenance of existing infrastructure, implement stewardship objectives that enhance forest ecosystems, and restore and improve ;health and water quality. Time will also be set aside for public comments at the beginning of the meeting. The business meeting July 10th begins at 5 pm., at the Modoc National Forest Office, Conference Room, 800 West 12th Street, Alturas. Agenda topics will include approval of the 06/12/02 minutes, reports from subcommittees and selection of projects on the Modoc National Forest that meet the intent of Pub. L. 106-393. Time will be set aside for public comments at the beginning of the meeting.

FOR FURTHER INFORMATION CONTACT: Dan Chisholm, Forest Supervisor and Designated Federal Officer, at (530) 233-8700; or Public Affairs Officer Nancy Gardner at (530) 233-8713.

Dan Chisholm,
Forest Supervisor.

[FR Doc. 02-13197 Filed 5-24-02; 8:45 am]

BILLING CODE 3410-11-M